DEPARTMENT OF THE INTERIOR

Bureau of Ocean Energy Management

30 CFR parts 585 and 590

[Docket ID: BOEM-2012-0077]

RIN 1010-AD77

MMAA104000; Timing Requirements for the Submission of a Site Assessment Plan (SAP) or General Activities Plan (GAP) for a Renewable Energy Project on the Outer Continental Shelf (OCS)

AGENCY: Bureau of Ocean Energy Management (BOEM), Interior.

ACTION: Final rule.

SUMMARY: This rule amends the timing requirements for submitting a SAP or GAP. Under the rule, all OCS renewable energy leases and grants will have a preliminary term of 12 months in which a lessee or grantee must submit a SAP or a GAP. BOEM is taking this action because the current regulations provide timing requirements for submission of SAPs and GAPs that have proven to be impractical. In addition, this rule amends various other regulatory provisions, such as those pertaining to a lessee's first rent payment.

DATES: This final rule is effective May 19, 2014.

FOR FURTHER INFORMATION CONTACT: Jennifer Golladay, BOEM Office of Renewable Energy, at Jennifer.Golladay@boem.gov or 703-787-1688.

SUPPLEMENTARY INFORMATION: This rule increases efficiency and reduces the burden of regulations, since it extends the timeframes for lessees and operators to submit plans and makes it possible for a Right of Use and Easement (RUE) to be issued while a GAP is still pending. BOEM published a proposed rule soliciting comments in the Federal Register on February 25, 2013 (78 FR 12676).

Executive Summary

Current BOEM regulations require a lessee to submit a SAP or a GAP, and a grantee to submit a GAP, within six months of lease or grant issuance in cases where the lease or grant is issued following completion of a competitive bidding process. In cases where a lease or grant is issued on a noncompetitive basis, the regulations require the requestor to submit a SAP or GAP within 60 days after BOEM makes and publishes a “Determination of No Competitive Interest.” In communications with prospective OCS renewable energy lessees and grantees that took place after the current regulations were issued, BOEM learned that these timeframes—especially the 60-day requirement—are too short, and that most developers intend to request departures from the regulatory requirements pertaining to the timing of SAP and GAP submissions. In part, this is because site characterization activities necessary to support the submission of a SAP or GAP are significantly affected and controlled by seasonal weather conditions. This rule addresses the difficulties associated with the current timing requirements by lengthening the timeframe for submission of SAPs and GAPs to 12 months following lease/grant issuance for both competitively-issued and noncompetitively-issued leases and grants.

This rule makes various administrative corrections and clarifications to BOEM's renewable energy regulations.

Summary of Changes

30 CFR Part 585

This rule amends the timing requirements for submitting a SAP or GAP pursuant to the regulations governing renewable energy and alternate uses of existing facilities on the OCS in 30 CFR part 585. Under the rule, all OCS renewable energy leases and grants would have a preliminary term of 12 months in which the lessee or grantee must submit a SAP or a GAP. BOEM is proposing these changes because the current regulations specify timing requirements for submission of SAPs and GAPs that have proven to be impractical. This rule addresses the difficulties associated with the current timing requirements by lengthening the timeframe for submission of SAPs and GAPs to 12 months following lease/grant issuance in all cases for both competitively-issued and noncompetitively-issued leases and grants.

Changes Made Between Proposed and Final Rule

In the proposed rule, BOEM proposed to add definitions of the terms “CZMA State” and “State CZMA Agency” to the regulations. This was intended to enable BOEM to clarify which regulatory provisions apply to states with rights and responsibilities under the Coastal Zone Management Act, as opposed to the states that fall under the general definition of “Affected State” under the Outer Continental Shelf Lands Act (OCSLA). However, the definition of “Affected State” in BOEM's renewable energy regulations is different from the definition in OCSLA, and “Affected State” is not used in the regulations describing the CZMA compliance process (e.g., 30 CFR 585.612, 628, and 647). After receiving comments and considering the potential changes further, BOEM decided against adding the new definitions, since the proposed additions would likely have caused confusion and redundancy rather than clarity. The current regulations at 30 CFR part 585 include a definition of “affected state” that fully addresses the needs of BOEM's renewable energy program. Therefore, BOEM will continue to use the term “affected state” in the following sections: 30 CFR 585.102, 585.112, 585.203, 585.211, 585.231, 585.238, 585.306, and 585.902 to implement this decision.

In addition to the changes to the proposed rule which are discussed in the section “Response to Comments Matrix and Other Preamble Text,” the following clarifying edits and/or technical corrections have been made to the current regulations:

• 30 CFR 585.112—BOEM made minor changes that expand the definition of “you and your” to include designated agents of all entities listed, and corrected a minor grammatical error in this definition.

• 30 CFR 585.203—BOEM made a small grammatical edit to the last sentence.

• 30 CFR 585.211—BOEM made a small grammatical edit and a small wording change to the first sentence in (c).

• 30 CFR 585.224—BOEM edited this provision to ensure consistency with 30 CFR 585.503 regarding a lessee's first rent payment, and made a small grammatical edit.

• 30 CFR 585.231—BOEM made small changes and some grammatical edits in (d), (e), and (f), and changed the number of months of rent owed in (g)(2).

• 30 CFR 585.235—BOEM made small wording changes in (a)(1), (a)(3), and (a)(4), clarified the language about the start of the operations term in the event a SAP/Construction and Operations Plan (COP) is submitted in (a)(3), and moved text from the second to third column in (a)(4).

• 30 CFR 585.236—BOEM reformatted the table slightly.

• 30 CFR 585.303—BOEM edited (a) to make a small grammatical change and mirror the title of the provision in the regulatory text, and added clarifying language in (b).

• 30 CFR 585.500, 503, and 505—BOEM coordinated with the Department of the Interior's Office of Natural Resources Revenue (ONRR) and determined that certain citations to the ONRR regulations in the proposed rule were incorrect. Accordingly, sections 500(a) & (b), 503 (a)(1) and 505(b) were revised. In addition, edits were made to ensure consistency with requirements in other regulatory provisions and to effectively communicate to lessees how to make first-year rent payments. BOEM also made a small grammatical edit in 30 CFR 585.500.

• 30 CFR 585.611—BOEM edited this provision to align the language with BOEM's standard for determining if previous environmental analyses adequately cover the proposed activities for environmental review purposes by, for example, replacing “substantially inconsistent” with “significantly different.” Additionally, BOEM made small grammatical edits and eliminated the passive voice.

• 30 CFR 585.612—In this section, and in all other sections where the term “State CZM agency” was used, BOEM replaced this term with a new reference to “applicable State CZMA agency or agencies,” consistent with the approach used in new text included in 30 CFR 585.306 and 231. BOEM also changed the wording in the first row of the table.

• 30 CFR 585.627—BOEM edited (a) to eliminate the references to competitive and noncompetitive leasing and make small grammatical changes, and corrected statutory and regulatory references in (b).

• 30 CFR 585.628—BOEM edited (c) to: (1) Provide consistent terminology (“applicable State CZMA agency or agencies”) and, (2) clarify that the developer is responsible for providing this set of information to the applicable State CZMA agency or agencies in the event that the COP is submitted to BOEM prior to lease issuance, pursuant to 15 CFR part 930, subpart D.

• 30 CFR 585.646—BOEM made small changes to (a) of this provision to ensure that the text mirrors the language in 30 CFR 585.611 and to eliminate the passive voice. BOEM edited (b) to align the language with BOEM's standard for determining if previous environmental analyses adequately cover the proposed activities for environmental review purposes by, for example, replacing “substantially inconsistent” with “significantly different,” to remove an unnecessary reference to CZMA, to make small grammatical changes, and to eliminate the passive voice.

• 30 CFR 585.647—BOEM changed some of the wording to align with the new text included in 30 CFR 585.306 and 231, (“applicable State CZMA agency or agencies”), to fix an incorrect regulatory citation, and to change the wording in the first row of the table.

Finally, BOEM made certain other changes to the regulatory text included in the proposed rule based on comments received, as described below in the Response to Comments Matrix.

Legal Authority

The authority for this rulemaking is the broad rulemaking provision of the OCSLA, as set forth in 43 U.S.C. 1334(a), that authorizes the Secretary of the Interior to prescribe and amend such rules and regulations as may be necessary to administer a leasing program, or necessary and proper in order to provide for the prevention of waste and conservation of natural resources of the OCS.

Section 8(p)(8) of OCSLA (43 U.S.C. 1337(p)(8)) provides authority for the portion of this rulemaking dealing with the production, transportation, or transmission of energy from sources other than oil and gas, and alternate uses of the OCS, which authorizes the Secretary to issue any necessary regulations to carry out subsection 8(p) of OCSLA.

Response to Comments Matrix and Other Preamble Text

BOEM published a proposed rule entitled, “Timing Requirements for the Submission of a Site Assessment Plan (SAP) or a General Activities Plan (GAP) for a Renewable Energy Project on the Outer Continental Shelf (OCS)” in the Federal Register on February 25, 2013, with a 30-day request for comments period.

BOEM received nine comment letters from interested stakeholders, and carefully considered them prior to finalizing the rulemaking. Generally, commenters were supportive of extending the timing requirements for developers to submit SAPs and GAPs. Some comments suggested edits to the text of the rulemaking, requested clarifications as to the applicability of the rulemaking, and/or raised questions about the necessity of the rulemaking. Responses to those comments are contained in the table below.

Comment received | BOEM response
BOEM should revise the definition of the term “CZMA State” by cross referencing the National Oceanic and Atmospheric Administration's Office of Ocean and Coastal Resource Management's Federal consistency rules | BOEM has decided against adding the new term “CZMA State” in this rulemaking.
BOEM should not require that a developer submitting an unsolicited request for a lease or grant include in the request a consistency certification and associated necessary data and information pursuant to CZMA regulations at 15 CFR part 930 subpart D | BOEM has made this requested change and accordingly will not add this requirement to 30 CFR 585.230 or 585.305. These developers are now required to submit a consistency certification and the associated necessary data and information under CZMA only after BOEM has determined that there is no competitive interest in the proposed project.
The proposed rule should address cable-related easements early at the lease sale or SAP or GAP stage, rather than later as part of a COP | BOEM did not make this requested change. The agency believes that it would be premature to consider and analyze cable locations until commercial wind lessees have conducted necessary surveys and lessees are able to consider the layout of their commercial projects when making siting decisions about transmission cables.
BOEM should edit 30 CFR 585.102 to bring it into conformity with 30 CFR 585.203, such that the first sentence of 30 CFR 585.102(e) uses “and” instead of “or.” | BOEM made this requested change.
The new proposed 30 CFR 585.612(b) should refer to 15 CFR part 930 instead of 15 CFR part 93 | BOEM made this requested change.
To avoid confusion, BOEM should clarify that BOEM regulations (see 30 CFR 585.231 and 585.306) regarding the applicable CZMA consistency review process do not apply to pending lease applications for which BOEM has issued a determination of no competitive interest prior to this rule's effective date | BOEM will address any such confusion with the appropriate parties on a project-by-project basis.
Please provide more detail on the number of SAPs and GAPs that have been filed, the bureau's use of this information, the actions taken against any companies that have filed plans late, and any requests to change these filing deadlines | At the time that this proposed rulemaking was published, BOEM had only received one such plan. However, after receiving (1) informal feedback on these timing requirements from industry and (2) requests to depart from these timing requirements pursuant to 30 CFR 585.103, BOEM came to the conclusion that the existing timing requirements were impractical. The comments received in response to the proposed rulemaking were generally supportive of extending the required timelines for plan submission.

Procedural Matters

Regulatory Planning and Review (Executive Orders 12866 and 13563)

Executive Order 12866 provides that the Office of Information and Regulatory Affairs (OIRA) will review all significant rules. The Office of Information and Regulatory Affairs has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. BOEM has developed this rule in a manner consistent with these requirements.

This rule is not a significant rule as determined by the Office of Management and Budget (OMB) and is not subject to review under E.O. 12866. For the most part, this rule makes administrative corrections and clarifications to the existing regulations. Other changes consist of the reorganization of selected renewable energy regulations.

Because this rule makes only minor alterations and changes to requirements for leasing, compliance, or enforcement from those set forth in existing regulations, no costs are estimated for this rulemaking.

(1) This rule will not have an annual effect of $100 million or more on the economy. It would not adversely affect in a material way the economy, productivity, competition, jobs, the environment, public health or safety, or State, local, or tribal governments or communities.

(2) This rule will not create a serious inconsistency or otherwise interfere with an action taken or planned by another agency.

(3) This rule will not alter the budgetary effects of entitlements, grants, user fees, or loan programs or the rights or obligations of their recipients.

(4) This rule will not raise novel legal or policy issues arising out of legal mandates, the President's priorities, or the principles set forth in E.O. 12866.

Regulatory Flexibility Act

The Department of the Interior certifies that this rule will not have a significant economic effect on a substantial number of small entities under the Regulatory Flexibility Act (5 U.S.C. 601 et seq.). This rulemaking will affect large and small entities through the clarification of the existing regulatory requirements under the reorganized regulations of part 585.

Your comments are important. The Small Business and Agriculture Regulatory Enforcement Ombudsman and ten Regional Fairness Boards were established to receive comments from small businesses about Federal agency enforcement actions. The Ombudsman will annually evaluate the enforcement activities and rate each agency's responsiveness to small business. If you wish to comment on the actions of BOEM, call 1-888-734-3247. You may comment to the Small Business Administration without fear of retaliation. Allegations of discrimination/retaliation filed with the Small Business Administration will be investigated for appropriate action.

Small Business Regulatory Enforcement Fairness Act

This rule is not a major rule under the Small Business Regulatory Enforcement Fairness Act (5 U.S.C. 801 et seq.). This rule:

(a) Will not have an annual effect on the economy of $100 million or more.

(b) Will not cause a major increase in costs or prices for consumers, individual industries, Federal, state, or local government agencies, or geographic regions.

(c) Will not have significant adverse effects on competition, employment, investment, productivity, innovation, or the ability of U.S.-based enterprises to compete with foreign-based enterprises. The requirements apply to all entities operating to develop renewable resources on the OCS.

Unfunded Mandates Reform Act of 1995

This rule does not impose an unfunded mandate on state, local, or tribal governments, or the private sector, of more than $100 million per year. This rule does not have a significant or unique effect on state, local, or tribal governments, or the private sector. A statement containing the information required by the Unfunded Mandates Reform Act (2 U.S.C. 1501 et seq.) is not required.

Takings Implication Assessment (E.O. 12630)

Under the criteria in E.O. 12630, this rule will not have significant takings implications. This rule will not be a governmental action capable of interference with constitutionally protected property rights. A Takings Implication Assessment is not required.

Federalism (E.O. 13132)

Under the criteria in E.O. 13132, this rule will not have federalism implications. This rule will not substantially affect the relationship between the Federal and state governments. To the extent that state and local governments have a role in OCS activities, this rule will not affect that role. A Federalism Assessment is not required.

Civil Justice Reform (E.O. 12988)

This rule complies with the requirements of E.O. 12988. Specifically, this rule:

(a) Meets the criteria of section 3(a) requiring that all regulations be reviewed to eliminate errors and ambiguity and be written to minimize litigation; and (b) Meets the criteria of section 3(b)(2) requiring that all regulations be written in clear language and contain clear legal standards.

Consultation With Indian Tribes (E.O. 13175)

Under the criteria in E.O. 13175, BOEM has evaluated this rule and determined that it will have no substantial effects on federally recognized Indian tribes.

Paperwork Reduction Act (PRA) of 1995

This rule does not contain new information collection requirements, and a submission under the PRA is not required. Therefore, an information collection request is not being submitted to the Office of Management and Budget (OMB) for review and approval under 44 U.S.C. 3501 et seq. The rule refers to, but does not change, the information collection requirements in 30 CFR 585. The OMB has approved the referenced information collection under OMB Control Number 1010-0176 (30,902 hours and $3,816,000 non-hour cost burden).

National Environmental Policy Act of 1969

This rule does not constitute a major Federal action significantly affecting the quality of the human environment. BOEM evaluated this rule under the criteria of the National Environmental Policy Act, 43 CFR Part 46 and 516 Departmental Manual 15. The issuance of this rule is categorically excluded from NEPA review because it meets the criteria set forth in 43 CFR 46.210(i) in that this rule is “. . . of an administrative, financial, legal, technical, or procedural nature . . .” Furthermore, we have evaluated this rule to determine if it involves any of the extraordinary circumstances that would require an environmental assessment or an environmental impact statement as set forth in 43 CFR 46.215. We concluded that this rule does not meet any of the criteria for extraordinary circumstances as set forth in 516 Departmental Manual 2 (Appendix 2).

Data Quality Act

In developing this rule, we did not conduct or use a study, experiment, or survey requiring peer review under the Data Quality Act (Pub. L. 106-554, app. C sec. 515, 114 Stat. 2763, 2763A-153-154).

Effects of the Nation's Energy Supply (E.O. 13211)

This rule is not a significant energy action under the definition in E.O. 13211. A Statement of Energy Effects is not required.

Clarity of This Regulation

We are required by E.O. 12866, E.O. 12988, and by the Presidential Memorandum of June 1, 1998, to write all rules in plain language. This means that each rule we publish must:

(a) Be logically organized;

(b) Use the active voice to address readers directly;

(c) Use clear language rather than jargon;

(d) Be divided into short sections and sentences; and

(e) Use lists and tables wherever such lists or tables would be helpful.

If you feel that we have not met these requirements, send your comments to Mr. Loren Thompson, Regulatory Liaison Officer, Office of Policy, Regulations and Analysis, Bureau of Ocean Energy Management, U.S. Department of the Interior, 1849 C St. NW., Washington, DC 20240 or to Loren.Thompson@boem.gov.

List of Subjects

30 CFR Part 585

Assessment plans, Coastal zone, Continental shelf, Electric power, Energy, Environmental impact statements, Environmental protection, Incorporation by reference, Offshore energy, Marine resources, Natural resources, Planning, Public lands, Public lands—rights-of-way, Renewable energy, Reporting and recordkeeping requirements, Revenue sharing, Solar energy, Wind energy.

30 CFR Part 590

Administrative practice and procedure, Appeals, Payments.

Dated: April 7, 2014.
Tommy P. Beaudreau,
Principal Deputy Assistant Secretary, Land and Minerals Management.

For the reason stated in the preamble, the Bureau of Ocean Energy Management amends 30 CFR chapter V as follows:

PART 585—RENEWABLE ENERGY AND ALTERNATE USES OF EXISTING FACILITIES ON THE OUTER CONTINENTAL SHELF

1. The authority citation for part 585 continues to read as follows:

Authority: 43 U.S.C. 1331 et seq.; 43 U.S.C. 1337.

2. Amend § 585.102 by revising paragraph (e) to read as follows:

§ 585.102 What are BOEM's responsibilities under this part?

* * * * *

(e) BOEM will provide for coordination and consultation with the Governor of any State, the executive of any local government, and the executive of any Indian Tribe that may be affected by a lease, easement, or ROW under this subsection. BOEM may invite any affected State Governor, representative of an affected Indian Tribe, and affected local government executive to join in establishing a task force or other joint planning or coordination agreement in carrying out our responsibilities under this part.

3. Amend § 585.112 by revising the definition of “You and your” to read as follows:

§ 585.112 Definitions.

* * * * *

You and your means an applicant, lessee, the operator, or designated operator, ROW grant holder, RUE grant holder, or Alternate Use RUE grant holder under this part, or the designated agent of any of these, or the possessive of each, depending on the context. The terms You and your also include contractors and subcontractors of the entities specified in the preceding sentence.

* * * * *

4. Revise § 585.203 to read as follows:

§ 585.203 With whom will BOEM consult before issuance of a lease?

For leases issued under this part, through either the competitive or noncompetitive process, BOEM, prior to issuing the lease, will coordinate and consult with relevant Federal agencies (including, in particular, those agencies involved in planning activities that are undertaken to avoid or minimize conflicts among users and maximize the economic and ecological benefits of the OCS, including multifaceted spatial planning efforts), the Governor of any affected State, the executive of any affected local government, and any affected Indian Tribe, as directed by subsections 8(p)(4) and (7) of the OCS Lands Act or other relevant Federal laws. Federal statutes that require BOEM to consult with interested parties or Federal agencies or to respond to findings of those agencies, including the Endangered Species Act (ESA) and the Magnuson-Stevens Fishery Conservation and Management Act (MSA). BOEM also engages in consultation with state and tribal historic preservation officers pursuant to the National Historic Preservation Act (NHPA).

5. Amend § 585.211 by revising paragraph (c) to read as follows:

§ 585.211 What is the process for the competitive issuance of leases?

* * * * *

(c) Proposed Sale Notice. BOEM will publish the Proposed Sale Notice in the Federal Register and send it to the Governor of any affected State, any Indian Tribe that might be affected, and the executive of any local government that might be affected. The comment period following issuance of a Proposed Sale Notice will be 60 days.

* * * * *

6. Amend § 585.212 by revising paragraph (a) to read as follows:

§ 585.212 What is the process BOEM will follow if there is reason to believe that competitors have withdrawn before the Final Sale Notice is issued?

* * * * *

(a) If, after reviewing comments in response to the notice of Request for Interest, BOEM determines that there is no competitive interest in the lease area, and one party wishes to acquire a lease, we will discontinue the competitive process and will proceed with the noncompetitive process set forth in § 585.231(d) through (i) following receipt of the acquisition fee specified in § 585.502(a).

* * * * *

7. Amend § 585.224 by revising paragraph (b) to read as follows:

§ 585.224 What happens if BOEM accepts my bid?

* * * * *

(b) Within 45 days after you receive the lease copies, you must pay the first 12-months' rent as required in § 585.503.

* * * * *

8. Amend § 585.231 by revising paragraphs (d), (e), (f), and (g)(2) to read as follows:

§ 585.231 How will BOEM process my unsolicited request for a noncompetitive lease?

* * * * *

(d) If BOEM determines that there is no competitive interest in a lease, we will publish in the Federal Register a notice of Determination of No Competitive Interest. After BOEM publishes this notice, you will be responsible for submitting any required consistency certification and necessary data and information pursuant to 15 CFR part 930, subpart D to the applicable State CZMA agency or agencies and BOEM.

(e) BOEM will coordinate and consult with affected Federal agencies, State, and local governments, and affected Indian tribes in the review of noncompetitive lease requests.

(f) After completing the review of your lease request, BOEM may offer you a noncompetitive lease.

(g) * * *

(2) Within 45 days after you receive the lease copies, you must pay the first 12-months' rent, as required in § 585.503.

* * * * *

9. Amend § 585.235 by revising paragraph (a) to read as follows:

§ 585.235 If I have a commercial lease, how long will my lease remain in effect?

(a) For commercial leases, the lease terms and applicable automatic extensions are as shown in the following table:

Lease term | Automatic extensions | Requirements
(1) Each commercial lease will have a preliminary term of 12 months, within which the lessee must submit: (i) a SAP; or (ii) a combined SAP and Construction and Operations Plan (COP). The preliminary term begins on the effective date of the lease | If BOEM receives a SAP that satisfies the requirements of §§ 585.605 through 585.613 or a SAP/COP that satisfies the requirements of §§ 585.605 through 585.613 and §§ 585.620 through 585.629, the preliminary term will be extended for the time necessary for us to conduct technical and environmental reviews of the SAP or SAP/COP | The SAP must meet the requirements of §§ 585.605 through 585.613. The SAP/COP must meet the requirements of §§ 585.605 through 585.613 and §§ 585.620 through 585.629.
(2) A commercial lease will have a site assessment term of five years to conduct site assessment activities and to submit a COP, if a SAP/COP has not been submitted. Your site assessment term begins when BOEM approves your SAP or SAP/COP | If we receive a COP that satisfies the requirements of §§ 585.620 through 585.629, the site assessment term will be automatically extended for the period of time necessary for us to conduct technical and environmental reviews of the COP | The COP must meet the requirements of §§ 585.620 through 585.629 of this part.
(3) A commercial lease will have an operations term of 25 years, unless a longer term is negotiated by the parties. A request for lease renewal must be submitted two years before the end of the operations term. If you submit a COP, your operations term begins on the date that BOEM approves the COP. If you submit a SAP/COP, your operations term begins on the earliest of the following dates: five years after BOEM approves the SAP/COP; when fabrication begins; or, when installation commences |  | The lease renewal request must meet the requirements in §§ 585.425 through 585.429.
(4) A commercial lease may have additional time added to the operations term through a lease renewal. The term of the lease renewal will not exceed the original term of the lease, unless a longer term is negotiated by the parties. The lease renewal term begins upon expiration of the original operations term |  | NOTE: BOEM may also order or grant a suspension of the operations term, as provided in §§ 585.415 through 585.421 thereby effectively extending the term of the lease.

* * * * *

10. Amend § 585.236 by revising paragraph (a) to read as follows:

§ 585.236 If I have a limited lease, how long will my lease remain in effect?

(a) For limited leases, the lease terms are as shown in the following table:

Lease term | Extension or suspension | Requirements
(1) Each limited lease has a preliminary term of 12 months to submit a GAP. The preliminary term begins on the effective date of the lease | If we receive a GAP that satisfies the requirements of §§ 585.640 through 585.648 of this part, the preliminary term will be automatically extended for the period of time necessary for us to conduct a technical and environmental review of the plans | The GAP must meet the requirements of §§ 585.640 through 585.648.
(2) Each limited lease has an operations term of five years for conducting site assessment, technology testing, or other activities. The operations term begins on the date that we approve your GAP | We may order or grant a suspension of the operations term as provided in §§ 585.415 through 585.421

* * * * *

11. Revise § 585.303 to read as follows:

§ 585.303 How long will my ROW grant or RUE grant remain in effect?

(a) Each ROW or RUE grant will have a preliminary term of 12 months from the date of issuance of the ROW or RUE grant within which to submit a GAP. The preliminary term begins on the effective date of the grant. You must submit a GAP no later than the end of the preliminary term for your grant to remain in effect. However, you may submit a GAP prior to the issuance of your ROW or RUE grant.

(b) Except as described in paragraph (a) of this section, your ROW grant or RUE grant will remain in effect for as long as the associated activities are properly maintained and used for the purpose for which the grant was made, unless otherwise expressly stated in the grant.

12. Amend § 585.306 by revising paragraph (b) and by removing paragraph (c).

The revision reads as follows:

§ 585.306 What action will BOEM take on my request?

* * * * *

(b) If BOEM determines that there is no competitive interest in a ROW grant or RUE grant, we will publish a notice in the Federal Register of such determination. After BOEM publishes this notice, you will be responsible for submitting any required consistency certification and necessary data and information pursuant to 15 CFR part 930, subpart D to the applicable State CZMA agency or agencies and BOEM. We will establish terms and conditions for the grant in consultation with you.

13. Amend § 585.309 by revising the introductory text to read as follows:

§ 585.309 When will BOEM issue a noncompetitive ROW grant or RUE grant?

After completing the review of your grant request, BOEM may offer you a noncompetitive grant.

* * * * *

14. Amend § 585.500 by revising paragraphs (a) and (b) to read as follows:

§ 585.500 How do I make payments under this part?

(a) For acquisition fees or the initial 12-months' rent paid for the preliminary term of your lease, you must make your electronic payments through the Fees for Services page on the BOEM Web site at http://www.boem.gov, and you must include one copy of the Pay.gov confirmation receipt page with your unsolicited request.

(b) For all other required rent payments and for operating fee payments, you must make your payments as required in 30 CFR 1218.51.

* * * * *

15. Amend § 585.503 by revising paragraph (a)(1) to read as follows:

§ 585.503 What are the rent and operating fee requirements for a commercial lease?

(a) * * *

(1) You must pay ONRR the initial 12-months' rent 45 days after you receive the lease copies from BOEM in accordance with the requirements provided in § 585.500(a).

* * * * *

16. Amend § 585.505 by revising paragraph (b) to read as follows:

§ 585.505 What are the rent and operating fee requirements for a limited lease?

* * * * *

(b) You must pay ONRR the initial 12-months' rent 45 days after you receive the lease copies from BOEM in accordance with the requirements provided in § 585.500(a).

* * * * *

17. Amend § 585.601 by:

a. Revising the introductory text and paragraph (a);

b. Removing paragraph (b);

c. Re-designating paragraphs (c) and (d) as paragraphs (b) and (c).

The revisions read as follows:

§ 585.601 When am I required to submit my plans to BOEM?

You must submit your plans as follows:

(a) You may submit your SAP or GAP prior to lease or grant issuance, but must submit your SAP or your GAP no later than 12 months from the date of lease or grant issuance.

* * * * *

18. Revise § 585.611 to read as follows:

§ 585.611 What information and certifications must I submit with my SAP to assist BOEM in complying with NEPA and other relevant laws?

You must submit, with your SAP, detailed information to assist BOEM in complying with NEPA and other relevant laws as appropriate.

(a) A SAP submitted for an area in which BOEM has not previously reviewed site assessment activities under NEPA or other applicable Federal laws, must describe those resources, conditions, and activities listed in the following table that could be affected by your proposed activities or that could affect the activities proposed in your SAP.

(b) For a SAP submitted for an area in which BOEM has previously considered site assessment activities under applicable Federal law (e.g., a NEPA analysis and CZMA consistency determination for site assessment activities), BOEM will review the SAP to determine if its impacts are consistent with those previously considered. If the anticipated effects of your proposed SAP activities are significantly different than those previously anticipated, we may determine that additional NEPA and other relevant Federal reviews are required. In that case, BOEM will notify you of such determination, and you must submit a SAP that describes those resources, conditions, and activities listed in the following table that could be affected by your proposed activities or that could affect the activities proposed in your SAP, including:

Type of information: | Including:
(1) Hazard information | Meteorology, oceanography, sediment transport, geology, and shallow geological or manmade hazards.
(2) Water quality | Turbidity and total suspended solids from construction.
(3) Biological resources | Benthic communities, marine mammals, sea turtles, coastal and marine birds, fish and shellfish, plankton, sea grasses, and other plant life.
(4) Threatened or endangered species | As required by the Endangered Species Act (ESA) of 1973 (16 U.S.C. 1531 et seq.).
(5) Sensitive biological resources or habitats | Essential fish habitat, refuges, preserves, special management areas identified in coastal management programs, sanctuaries, rookeries, hard bottom habitat, chemosynthetic communities, calving grounds, barrier islands, beaches, dunes, and wetlands.
(6) Archaeological resources | As required by the NHPA (16 U.S.C. 470 et seq.), as amended.
(7) Social and economic conditions | Employment, existing offshore and coastal infrastructure (including major sources of supplies, services, energy, and water), land use, subsistence resources and harvest practices, recreation, recreational and commercial fishing (including typical fishing seasons, location, and type), minority and lower income groups, coastal zone management programs, and viewshed.
(8) Coastal and marine uses | Military activities, vessel traffic, and energy and nonenergy mineral exploration or development.
(9) Consistency Certification | If required by CZMA, as appropriate: (i) 15 CFR part 930, subpart D, if the SAP is submitted prior to lease issuance; (ii) 15 CFR part 930, subpart E, if the SAP is submitted after lease issuance.
(10) Other resources, conditions, and activities | As identified by BOEM.

19. Revise § 585.612 to read as follows:

§ 585.612 How will my SAP be processed for Federal consistency under theCoastal Zone Management Act?

Your SAP will be processed based on whether it is submitted before or after your lease is issued:

If your SAP is submitted: | Consistency review of your SAP will be handled as follows:
(a) Before lease issuance | You will furnish a copy of your SAP, consistency certification, and necessary data and information pursuant to 15 CFR part 930, subpart D, to the applicable State CZMA agency or agencies and BOEM at the same time.
(b) After lease issuance | You will submit a copy of your SAP, consistency certification, and necessary data and information pursuant to 15 CFR part 930, subpart E to BOEM. BOEM will forward to the applicable State CZMA agency or agencies one paper copy and one electronic copy of your SAP, consistency certification, and necessary data and information required under 15 CFR part 930, subpart E, after BOEM has determined that all information requirements for the SAP are met.

20. Amend § 585.627 by revising paragraphs (a) and (b) to read as follows:

§ 585.627 What information and certifications must I submit with my COP to assist the BOEM in complying with NEPA and other relevant laws?

(a) You must submit with your COP detailed information to assist BOEM in complying with NEPA and other relevant laws. Your COP must describe those resources, conditions, and activities listed in the following table that could be affected by your proposed activities, or that could affect the activities proposed in your COP, including:

Type of information: | Including:
(1) Hazard information | Meteorology, oceanography, sediment transport, geology, and shallow geological or manmade hazards.
(2) Water quality | Turbidity and total suspended solids from construction.
(3) Biological resources | Benthic communities, marine mammals, sea turtles, coastal and marine birds, fish and shellfish, plankton, seagrasses, and plant life.
(4) Threatened or endangered species | As defined by the ESA (16 U.S.C. 1531 et seq.).
(5) Sensitive biological resources or habitats | Essential fish habitat, refuges, preserves, special management areas identified in coastal management programs, sanctuaries, rookeries, hard bottom habitat, chemosynthetic communities, calving grounds, barrier islands, beaches, dunes, and wetlands.
(6) Archaeological resources | As required by the NHPA (16 U.S.C. 470 et seq.), as amended.
(7) Social and economic resources | Employment, existing offshore and coastal infrastructure (including major sources of supplies, services, energy, and water), land use, subsistence resources and harvest practices, recreation, recreational and commercial fishing (including typical fishing seasons, location, and type), minority and lower income groups, coastal zone management programs, and viewshed.
(8) Coastal and marine uses | Military activities, vessel traffic, and energy and nonenergy mineral exploration or development.
(9) Consistency Certification | As required by the CZMA regulations: (i) 15 CFR part 930, subpart D, if your COP is submitted before lease issuance. (ii) 15 CFR part 930, subpart E, if your COP is submitted after lease issuance.
(10) Other resources, conditions, and activities | As identified by BOEM.

(b) You must submit one paper copy and one electronic copy of your consistency certification. Your consistency certification must include:

(1) One copy of your consistency certification under either subsection 307(c)(3)(B) of the CZMA (16 U.S.C. 1456(c)(3)(B)) and 15 CFR 930.76 or subsection 307(c)(3)(A) of the CZMA (16 U.S.C. 1456(c)(3)(A)) and 15 CFR 930.57, stating that the proposed activities described in detail in your plans comply with the State(s) approved coastal management program(s) and will be conducted in a manner that is consistent with such program(s); and

(2) “Necessary data and information,” as required by 15 CFR 930.58.

* * * * *

21. Amend § 585.628 by revising paragraph (c) to read as follows:

§ 585.628 How will BOEM process my COP?

* * * * *

(c) If your COP is submitted after lease issuance, BOEM will forward one copy of your COP, consistency certification, and associated data and information under the CZMA to the applicable State CZMA agency or agencies after all information requirements for the COP are met.

* * * * *

22. Amend § 585.640 by revising paragraph (b) to read as follows:

§ 585.640 What is a General Activities Plan (GAP)?

* * * * *

(b) You must receive BOEM approval of your GAP before you can begin any of the approved activities on your lease or grant. You must submit your GAP no later than 12 months from the date of the lease or grant issuance.

23. Revise § 585.646 to read as follows:

§ 585.646 What information and certifications must I submit with my GAP to assist BOEM in complying with NEPA and other relevant laws?

You must submit, with your GAP, detailed information to assist BOEM in complying with NEPA and other relevant laws as appropriate.

(a) A GAP submitted for an area in which BOEM has not reviewed GAP activities under NEPA or other applicable Federal laws must describe those resources, conditions, and activities listed in the following table that could be affected by your proposed activities or that could affect the activities proposed in your GAP.

(b) For a GAP submitted for an area in which BOEM has considered GAP activities under applicable Federal law (e.g., a NEPA analysis and CZMA consistency determination for the GAP activities), BOEM will review the GAP to determine if its impacts are consistent with those previously considered. If the anticipated effects of your proposed GAP activities are significantly different than those previously anticipated, we may determine that additional NEPA and other relevant Federal reviews are required. In that case, BOEM will notify you of such determination, and you must submit a GAP that describes those resources, conditions, and activities listed in the following table that could be affected by your proposed activities or that could affect the activities proposed in your GAP, including:

Type of information: | Including:
(1) Hazard information | Meteorology, oceanography, sediment transport, geology, and shallow geological or manmade hazards.
(2) Water quality | Turbidity and total suspended solids from construction.
(3) Biological resources | Benthic communities, marine mammals, sea turtles, coastal and marine birds, fish and shellfish, plankton, sea grasses, and other plant life.
(4) Threatened or endangered species | As required by the ESA (16 U.S.C. 1531 et seq.).
(5) Sensitive biological resources or habitats | Essential fish habitat, refuges, preserves, special management areas identified in coastal management programs, sanctuaries, rookeries, hard bottom habitat, chemosynthetic communities, calving grounds, barrier islands, beaches, dunes, and wetlands.
(6) Archaeological resources | As required by NHPA (16 U.S.C. 470 et seq.), as amended.
(7) Social and economic conditions | Employment, existing offshore and coastal infrastructure (including major sources of supplies, services, energy, and water), land use, subsistence resources and harvest practices, recreation, recreational and commercial fishing (including typical fishing seasons, location, and type), minority and lower income groups, coastal zone management programs, and viewshed.
(8) Coastal and marine uses | Military activities, vessel traffic, and energy and non-energy mineral exploration or development.
(9) Consistency Certification | If required by CZMA, as appropriate: (A) 15 CFR part 930, subpart D, if the GAP is submitted prior to lease or grant issuance; (B) 15 CFR part 930, subpart E, if the GAP is submitted after lease or grant issuance.
(10) Other resources, conditions, and activities | As required by BOEM.

24. Revise § 585.647 to read as follows:

§ 585.647 How will my GAP be processed for Federal consistency under the Coastal Zone Management Act?

Your GAP will be processed based on whether it is submitted before or after your lease or grant is issued:

If your GAP is submitted: | Consistency review of your GAP will be handled as follows:
(a) Before lease or grant issuance | You will furnish a copy of your GAP, consistency certification, and necessary data and information pursuant to 15 CFR part 930, subpart D, to the applicable State CZMA agency or agencies and BOEM at the same time.
(b) After lease or grant issuance | You will submit a copy of your GAP, consistency certification, and necessary data and information pursuant to 15 CFR 930, subpart E to BOEM. BOEM will forward to the applicable State CZMA agency or agencies one paper copy and one electronic copy of your GAP, consistency certification, and necessary data and information required under 15 CFR part 930, subpart E, after BOEM has determined that all information requirements for the GAP are met.

PART 590—APPEAL PROCEDURES

25. The authority citation for part 590 is revised to read as follows:

Authority: 5 U.S.C. 301 et seq.; 31 U.S.C. 9701; 43 U.S.C. 1334.

26. Amend § 590.4 by revising paragraph (b)(1) to read as follows:

§ 590.4 How do I file an appeal?

* * * * *

(b) * * *

(1) You must pay electronically through the Fees for Services page on the BOEM Web site at http://www.boem.gov, and you must include a copy of the Pay.gov confirmation receipt page with your Notice of Appeal.

* * * * *

[FR Doc. 2014-08488 Filed 4-16-14; 8:45 am]

BILLING CODE 4320-MR-P